DEPARTMENT OF TRANSPORTATION

Federal Highway Administration

Environmental Impact Statement: Prince George's, and Charles Counties, Maryland

AGENCY: Federal Highway Administration (FHWA) DOT.

ACTION: Notice of intent.

SUMMARY: The FHWA is issuing this notice to advise the public that an environmental impact statement (EIS) will be prepared for a proposed highway project in Prince George's and Charles Counties, Maryland.

FOR FURTHER INFORMATION CONTACT: Ms. Pamela S. Stephenson, Environmental Protection, Specialist, Federal Highway Administration, The Rotunda, Suite 220, 711 West 40th Street, Baltimore, Maryland 21211, Telephone: (410) 962-4342, ext. 145.

SUPPLEMENTARY INFORMATION: The FHWA, in cooperation with the Maryland State Highway Administration (SHA) and the US Army Corps of Engineers, will prepare a combined Tier I/Tier II Environment Impact Statement (EIS) for the US 301 Transportation Study-Southern Corridor. The study limits encompass a total of 39 miles within both the US 301 corridor, from the Governor Nice Bridge crossing of the Potomac River to the 301/MD5 interchange at T.B., and the MD 5 corridor from T.B. to the Capital Beltway (I-95/I-495). Within the Southern Corridor limits, there are four definable areas: the MD 5 corridor, LaPlata corridors, US 301 south of LaPlata to the Governor Nice Bridge and US 301 through the Waldorf area.

The EIS for this study will combine two tiered levels of documentation. Tier I documentation will be completed for the MD 5 and the LaPlata corridors, as well as for US 301 south of LaPlata to the Governor Nice Bridge. Tier II (or traditional NEPA studies) documentation will be completed for US 301 through the Waldorf area, due to the more immediate need for improvements in this area.

Existing and projected growth population and development is resulting in severe traffic congestion throughout southern Maryland, especially within Waldorf area. The roadways within and adjacent to the Waldorf area will soon reach capacity during peak travel periods and will be unable to accommodate increasing traffic volumes. This study will evaluate improvements, which will address safety problems and accommodate existing and projected travel demand. Alternatives for the Waldorf area will include the No-Build, Transportation Systems Management (TSM)/Transportation Demand Management (TDM) measures, Existing road upgrades and Bypass Alternative(s) east and west of existing US 301. The goal is to receive Location Approval on one or a combination of alternative for this area.

For the remaining corridors (MD 5, LaPlata, and south of LaPlata to the Governor Nice Bridge), the current level of traffic congestion is less acute. SHA has identified these corridors, where development is likely to occur and where preservation of right-of-way (within the specific corridor) may be needed to maintain options for future transportation improvements. The goal is to receive approval on a selected corridor(s), which will permit the use of federal funds for the purpose of hardship and protective right-of-way acquisition. The goal is to receive approval on a selected corridor(s), which will permit the use of federal funds for the purpose of hardship and protective right-of-way acquisition. This would ensure that land for implementing transportation options would still be available in this corridor(s) when the anticipated need for future improvements becomes more apparent.

Letters describing the proposed action and soliciting comments will be sent to appropriate Federal, State, and local agencies, and to private organizations and citizens and citizen groups who have previously expressed or are known to have an interest in this proposal. A Public Hearing is tentively scheduled for the Fall of 2000. The draft EIS will be available for public and agency review and comment prior to a Public Hearing. Public notice will be given of the availability of the Draft EIS for review and of the time and place of this hearing.

Project scoping activities include formation of the US 301 Task Force, with representatives of Federal, State and Local governments, elected officials, local area civic, environmental and business leaders, and land owners. A series of Task Force environmental and business leaders, and land owners. A series of Task Force Informational Workshops and Public Hearings were held on June 17, June 19, and July 9, 1996, in Bowie, Waldorf and Upper Marlboro, respectively. The meeting reviewed the history of the US 301 Task Force and its goals and also presented its preliminary recommendations consisting of the integration of new local land use policies, transportation demand strategies and transit and highway options. Since that time, a series of Public Workshops were held on September 14, September 15, and September 23, 1999 to share with the public conceptual improvements for the Waldorf area and identify the corridors for future improvement for the LaPlata area and MD 5 corridor.

To ensure that the full range of issues related to this proposed action are addressed and all significant issues identified, comments and suggestion are invited from all interested parties. Comments or questions concerning these proposed actions and EIS should be directed to FHWA at the address provide above.

(Catalog of Federal Domestic Assistance Program Number 20.205, Highway Research, Planning and Construction. The regulation implementing Executive Order 12372 regarding intergovernmental consultation of Federal programs and activities apply to this program.)

Issued on: March 22, 2000.
Pamela S. Stephenson,
Environmental Protection Specialist, Baltimore, Maryland.

[FR Doc. 00-9026 Filed 4-11-00; 8:45 am]

BILLING CODE 4910-22-M